NUCLEAR REGULATORY COMMISSION

10 CFR Part 171

RIN 3150-AI00

Revision of Fee Schedules; Fee Recovery for FY 2007; Correction

AGENCY: U.S. Nuclear Regulatory Commission.

ACTION: Final rule; correction.

SUMMARY: This document corrects a final rulemaking published on June 6, 2007 (72 FR 31401), that amends the licensing, inspection, and annual fees charged to its applicants and licensees. This notice is necessary to correct an erroneous amendatory instruction.

DATES: Effective Date: August 6, 2007.

FOR FURTHER INFORMATION CONTACT: Renu Suri, Office of the Chief Financial Officer, U.S. Nuclear Regulatory Commission, Washington, DC 20555-0001, Telephone 301-415-0161, e-mail RXS6@nrc.gov.

SUPPLEMENTARY INFORMATION:

PART 171—[CORRECTED]

§ 171.16 [Corrected]

On page 31427, in the third column, amendatory instruction 10. is corrected to read, “In 171.16, paragraph (a)(2) is redesignated as paragraph (a)(3) and revised, a new paragraph (a)(2) is added, and paragraphs (c), (d), and (e) are revised to read as follows:”

Dated at Rockville, Maryland, this 20th day of July, 2007.
For the Nuclear Regulatory Commission.
Cindy Bladey,
Acting Chief, Rulemaking, Directives, and Editing Branch, Division of Administrative Services, Office of Administration.

[FR Doc. E7-14441 Filed 7-25-07; 8:45 am]

BILLING CODE 7590-01-P